Title 3—

The President

Proclamation 10428 of August 5, 2022

National Health Center Week, 2022

By the President of the United States of America

A Proclamation

Over half a century ago, President Lyndon B. Johnson piloted a program to deliver affordable primary health care to Americans who needed it most. He helped establish community health centers in underserved areas, making medical services accessible to people irrespective of their age, geography, or economic status. President Johnson's philosophy was simple: in a “Great Society,” no one is left behind. Today, that ideal lives on. Health centers provide quality medical, dental, and behavioral health care services to more than 30 million Americans each year, and they remain a cornerstone of our public health system. During National Health Center Week, we celebrate the vital role these health centers play in safeguarding the well-being of Americans and honor the heroic staff who keep these facilities running.

Health care is a right, not a privilege. Yet many people still struggle to obtain the medical services they need. Nearly 4 million Americans remain locked out of Medicaid expansion, and millions more find it difficult to afford prescription drugs, mental health services, and preventive screenings. Access to care is also often unequal—Black and Brown Americans, rural residents, American Indian and Alaska Native Tribes, and low-income families consistently report lower rates of coverage and lesser access to primary care. Federally funded health centers meet these challenges head-on by providing medical services—particularly to communities of color, rural communities, and individuals living in poverty—through nearly 1,400 community-based organizations operating over 14,000 service delivery sites. Given that clinics operate under a patient-majority governing board, health centers ensure that decisions are being directly informed and made by those being served.

Since taking office, my Administration has strengthened our Nation's health center network. Last year, we invested $7.6 billion in American Rescue Plan funds to strengthen the health center workforce, renovate facilities, and equip them with essential COVID-19 medical supplies. We also allotted $400 million from the American Rescue Plan to create a partnership between the Centers for Disease Control and Prevention and AmeriCorps to train the next generation of public health workers, including in community health centers. We prevented sickness and treated illness for millions of Americans. We helped pay salaries for over 272,000 full-time health care workers and supporting staff.

Health centers are central to many of my Administration's priorities. From reducing the cancer death rate by ensuring equitable access to cancer screenings and preventive care to helping Americans live healthier lives through new digital health technologies—we will ensure that health centers are equipped for the future of health care. I remain committed to working with the Congress to double the size of the Health Center Program, to putting even more Americans to work in these centers across our country, and to ensuring that each of us can access health care at an affordable price.

During National Health Center Week, let us recognize our health centers and staff for their outstanding contributions to communities across America. Let us thank them for their dedication, their service, and their commitment to a stronger, healthier, and more equitable health system.

NOW, THEREFORE, I, JOSEPH R. BIDEN JR., President of the United States of America, by virtue of the authority vested in me by the Constitution and the laws of the United States, do hereby proclaim the week of August 7 through August 13, 2022, as National Health Center Week.

IN WITNESS WHEREOF, I have hereunto set my hand this fifth day of August, in the year of our Lord two thousand twenty-two, and of the Independence of the United States of America the two hundred and forty-seventh.

[FR Doc. 2022-17297

Filed 8-9-22; 8:45 am]

Billing code 3395-F2-P